DEPARTMENT OF ENERGY

Extension of a Currently Approved Information Collection for the Weatherization Assistance Program; Correction

AGENCY: Office of State and Community Energy Programs, Department of Energy.

ACTION: Notice and request for comments; correction.

SUMMARY: On October 26, 2022, the Department of Energy (DOE), published a 30-day notice in the Federal Register that announced intent to extend for three years a currently approved collection of information with the Office of Management and Budget (OMB). This document makes a correction to that notice.

FOR FURTHER INFORMATION CONTACT: Requests for additional information or copies of the information collection instrument and instructions should be directed to Brittany Price, EE-5W, U.S. Department of Energy, 1000 Independence Ave. SW, Washington, DC 20585-0121 or by email or phone at brittany.price@hq.doe.gov, (240) 306-7252.

Corrections

In the Federal Register of October 26, 2022, in FR Doc. 2022-23240, on page 64783, please make the following correction:

In that notice under SUPPLEMENTARY INFORMATION, first column, first paragraph, (8) Annual Estimated Reporting and Recordkeeping Cost Burden has changed. The original (8) Annual Estimated Reporting and Recordkeeping Cost Burden was “$366,824.64”. The new (8) Annual Estimated Reporting and Recordkeeping Cost Burden is “$430,003.44”.

Reason for Correction: The previous hourly wage rate for state government financial personnel that was used to calculate the estimated cost burden for recipients was adjusted to the fully burdened rate, which led to the change in total cost that is reflected by this correction.

Signing Authority

This document of the Department of Energy was signed on February 28, 2023, by Kathleen Hogan, Principal Deputy Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 1, 2023.
Treena V. Garrett,
Federal Register Liaison Officer, U.S. Department of Energy.

[FR Doc. 2023-04530 Filed 3-3-23; 8:45 am]

BILLING CODE 6450-01-P